NATIONAL FOUNDATION FOR THE ARTS AND HUMANITIES

Notice of Continuance for General Clearance for Guidelines, Applications, and Reporting Forms

AGENCY: Institute of Museum and Library Services.

ACTION: Notice of requests for information collection, comment request.

SUMMARY: The Institute of Museum and Library Service (IMLS) as part of its continuing effort to reduce paperwork and respondent burden, conducts a pre-clearance consultation program to provide the general public and Federal agencies with an opportunity to comment on proposed and/or continuing collections of information in accordance with the Paperwork Reduction Act (44 U.S.C. Chapter 35). This program helps to ensure that requested data can be provided in the desired format, reporting burden (time and financial resources) is minimized, collection instruments are clearly understood, and the impact of collection requirements on respondents can be properly assessed. The Institute of Museum and Library Services is currently soliciting comments on IMLS program guidelines and reporting requirements.

A copy of the proposed information collection request can be obtained by contacting the individual listed below in the ADDRESSES section of this notice.

DATES: Written comments must be submitted to the office listed in the ADDRESSES section below on or before June 26, 2010.

The IMLS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the documents contact: Kim A. Miller, Management Analyst, Institute of Museum and Library Services, 1800 M Street, NW., 9th Floor, Washington, DC 20036. Ms. Miller can be reached by telephone: 202-653-4762; fax: 202-653-4600; or e-mail: kmiller@imls.gov.

SUPPLEMENTARY INFORMATION:

I. Background

The Institute of Museum and Library Services (IMLS) is an independent Federal grant-making agency and is the primary source of Federal support for the Nation's 123,000 libraries and 17,500 museums. IMLS provides a variety of grant programs to assist the Nation's museums and libraries in improving their operations and enhancing their services to the public. (20 U.S.C. 9101 et seq.).

II. Current Actions

To administer these programs of grants, cooperative agreements and contracts, IMLS must develop application guidelines, applications and reporting forms.

Agency: Institute of Museum and Library Services.

Title: IMLS Guidelines, Applications and Reporting Forms.

OMB Number: 3137-0029, 3137-0071.

Agency Number: 3137.

Frequency: Annually, Semi-annually.

Affected Public: State Library Administrative Agencies, museums, libraries, institutions of higher education, library and museum professional associations, and museum and library professionals, Indian Tribes (including any Alaska native village, regional corporation, or village corporation), and organizations that primarily serve and represent Native Hawaiians.

Number of Respondents: 6,357.

Estimated Time per Respondent: .08-90 hours.

Total Burden Hours: 70,357.

Total Annualized capital/startup costs: 0.

Total Annual Costs: $1,850,383

Contact: For a copy of the documents contact: Kim Miller, Management Analyst, Institute of Museum and Library Services, 1800 M Street, NW., 9th Floor, Washington, DC 20036. Ms. Miller can be reached by telephone: 202-653-4762; fax: 202-653-4600; or e-mail: kmiller@imls.gov.

Dated: April 26, 2010.
Kim A. Miller,
Management Analyst, Office of Policy, Planning, Research, and Communication.

[FR Doc. 2010-9961 Filed 4-28-10; 8:45 am]

BILLING CODE 7536-01-P